DEPARTMENT OF TRANSPORTATION

Federal Railroad Administration

Petition for Waiver of Compliance

In accordance with part 211 of title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Hillsborough Area Regional Transit

[Docket Number FRA-2002-13398]

This notice supercedes the Federal Register notice, Vol. 70, No. 118, issued June 21, 2005, at 35771, concerning the above docket number which was issued in error.

In its decision letter dated May 2, 2005, the FRA Railroad Safety Board granted Hillsborough Area Regional Transit (HARTLine) a waiver extension to include the original terms and conditions of its Shared Use/ Limited Connection Waiver, and incorporated changes to the operating plan for a period of one year (for the duration of Phase 1 operating procedures). FRA will consider granting HARTLine a five year extension (with proposed Phase 2 procedures implemented) after reviewing the results of the Phase 1 operation. HARTLine now seeks a modification to this waiver and requests a change in the verbiage of the following paragraph of the May 2, 2005 Decision Letter:

“Phase 1: HARTLine will have its streetcars continue to be required to stop at the signal regardless of indication, with motorman announcing their intention to cross on a proceed (green) signal indication via radio to the HARTLine Rail Dispatcher in lieu of the CSXT flagman. The Rail Dispatcher, via newly installed Remote Monitoring System cameras, would then confirm the signal indication and grant permission to cross if the signal indication allows. The motorman would then recheck the signal; again confirm an appropriate signal indication to the Rail Dispatcher via radio, and cross the interlock. The HARTLine Rail Dispatcher would not control or communicate with CSXT train engineers or make any representations of the signals aspect. The HARTLine Rail Dispatcher will notify CSXT in Jacksonville, Florida, immediately by telephone of any irregularities in the signaling system.”

HARTLine requests that the paragraph be amended to read as follows:

“Phase 1: HARTLine will have its streetcars continue to be required to stop at the signal regardless of indication, with motorman announcing their intention to cross on a proceed (green) signal indication via radio to the HARTLine Rail Dispatcher in lieu of the CSXT flagman. The Rail Dispatcher then confirms the transmission from the motorman that he/she has checked the indication of the signal, and is following its instructions. The motorman would then recheck the signal; again confirm an appropriate signal indication to the Rail Dispatcher via radio, and cross the interlock. The HARTLine Rail Dispatcher would not control or communicate with CSXT train engineers or make any representations of the signals aspect. The HARTLine Rail Dispatcher will notify CSXT in Jacksonville, Florida, immediately by telephone of any irregularities in the signaling system.”

HARTLine is asking the FRA to modify the language of the waiver in order to reinforce the aspect of the failsafe CSXT signal only is used to control regular crossings, and ensure no misinterpretation that the Remote Monitoring System cameras or verbal permission from the Rail Dispatcher are approved crossing devices. Concurrently, HARTLine also is asking FRA to remove a minor typographic error that is present in the Decision Letter.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communication concerning these proceedings should identify the appropriate docket number (e.g., Waiver Petition Docket Number FRA-2002-13398) and must be submitted to the Docket Clerk, DOT Docket Management Facility, Room PL-401 (Plaza Level), 400 7th Street, SW., Washington, DC 20590. Communications received within 30 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Issued in Washington, DC, on July 13, 2005.
Grady Cothen, Jr.,
Deputy Associate Administrator for Safety Standards and Program Development.

[FR Doc. 05-14341 Filed 7-20-05; 8:45 am]

BILLING CODE 4910-06-P